DEPARTMENT OF TRANSPORTATION

Surface Transportation Board

[STB Finance Docket No. 35356]

ABC & D Recycling, Inc.—Lease and Operation Exemption—a Line of Railroad in Ware, MA

ABC & D Recycling, Inc. (ABC & D), a noncarrier, has filed a verified notice of exemption under 49 CFR 1150.31 to lease from O'Riley Family Trust (O'Riley), and to operate 773 feet of rail line, located at milepost 12.8, in Ware, MA. The line is currently operated by the Massachusetts Central Railroad Corporation (MCER).¹

¹ According to ABC & D, an agreement has been reached with O'Riley to lease and operate the railroad trackage owned by O'Riley.

ABC & D states that it has and intends to continue to handle construction and demolition debris, and that it obtained and continues to hold all state and local permits necessary in order to handle construction and demolition debris. ABC & D further states that if it wishes to handle solid waste, as defined in the Clean Railroads Act of 2008, it must: (1) Obtain all state and local permits necessary in order to handle such solid waste, or (2) obtain a land-use exemption from the Board for any permits that it is unable to obtain from the state or local government.

ABC & D certifies that its projected annual revenues as a result of the transaction will not exceed those that would qualify it as a Class III rail carrier, and further certifies that its projected annual revenues will not exceed $5 million.

The transaction is expected to be consummated on March 26, 2010, the effective date of the exemption (30 days after the exemption was filed).

If the verified notice contains false or misleading information, the exemption is void ab initio. Petitions to revoke the exemption under 49 U.S.C. 10502(d) may be filed at any time. The filing of a petition to revoke will not automatically stay the effectiveness of the exemption. Petitions for stay must be filed no later than March 19, 2010 (at least 7 days before the exemption becomes effective).

An original and 10 copies of all pleadings, referring to STB Finance Docket No. 35356, must be filed with the Surface Transportation Board, 395 E Street, SW., Washington, DC 20423-0001. In addition, a copy of each pleading must be served on Leonard M. Singer, Office of Leonard M. Singer, 101 Arch Street, Ninth Floor, Boston, MA 02110.

Board decisions and notices are available on our Web site at http://www.stb.dot.gov.

Decided: March 9, 2010.
By the Board, Rachel D. Campbell, Director, Office of Proceedings.
Andrea Pope-Matheson,
Clearance Clerk.

[FR Doc. 2010-5445 Filed 3-11-10; 8:45 am]

BILLING CODE 4915-01-P